DEPARTMENT OF HEALTH AND HUMAN SERVICES

Substance Abuse and Mental Health Services Administration

Agency Information Collection Activities: Submission for OMB Review; Comment Request

Periodically, the Substance Abuse and Mental Health Services Administration (SAMHSA) will publish a summary of information collection requests under OMB review, in compliance with the Paperwork Reduction Act (44 U.S.C. Chapter 35). To request a copy of these documents, call the SAMHSA Reports Clearance Officer on (240) 276-1243.

Project: Hospital Data Abstraction Form, Formerly Entitled Evaluation of Emergency Department Crisis Center Follow-Up—(OMB No. 0930-0337)—Revision

The Substance Abuse and Mental Health Services Administration's (SAMHSA), Center for Mental Health Services (CMHS) will conduct an evaluation to assess the impact of crisis center follow-up with patients admitted to emergency departments following a suicide attempt.

The overarching purpose of the Hospital Data Abstraction Form, formerly entitled Evaluation of Emergency Department Crisis Center Follow-up, is to examine the impact of crisis center follow-up with patients admitted to emergency departments or inpatient behavioral health units following a suicide attempt or serious suicidal ideation on subsequent readmissions for suicidal behavior. This effort assesses the capacity of follow-up to save both lives and critical hospital resources. This evaluation effort includes one data collection activity. Clearance is being requested for the continuation and expansion of the already-approved abstraction form of hospital data on patients admitted to emergency departments or inpatient behavioral health units following a suicide attempt or serious ideation. This effort will continue to examine the impact of crisis center follow-up on readmissions for suicidal behavior. The data collected through this project will ultimately help SAMHSA to understand and direct crisis center follow-up lifesaving initiatives. The data collection activity is described below.

Hospitals collaborating with two cohorts (cohorts IV and V) of Lifeline crisis centers will participate in this expanded initiative. Fifteen hospitals per cohort will participate for a total of 30. Patient data will be collected for patients admitted for a suicide attempt in the two years prior to collaboration between the hospital and crisis center and for patients admitted for a suicide attempt for the two-year period after collaboration.

The Hospital Data Abstraction Form will be utilized to collect systematic patient data for patients seen in the 30 participating hospitals' emergency departments or inpatient behavioral health units. Information to be abstracted from patient data include: Demographic data, historical data, and subsequent suicidal behavioral and admission data. Data will be de-identified. Hospital staff will review patient data for qualifying (i.e., admission to the emergency department for suicide attempt) records. Records to be reviewed will include emergency department or inpatient behavioral health unit admissions for the two years prior to crisis center and hospital collaboration and for two years following collaboration. It is expected that a total of 30,000 records will be abstracted by hospital staff and provided to the evaluation team.

This revision involves an increase in the number of participating hospital respondents and burden associated with the continuation/expansion of the already-approved Hospital Data Abstraction Form (OMB No. 0930-0337; Expiration 09/30/2016), as well as the discontinuation of data collection and burden associated with the Crisis Center Data Abstraction Form.

The estimated response burden to collect this information is as follows annualized over the requested three-year clearance period is presented below:

Total and Annualized Averages: Respondents, Responses, and Hours
Instrument | Number of respondents | Responses per respondent * | Total number of responses | Burden per response | Annual burden *
Hospital Data Abstraction Form | 30 | 334 | 10,020 | .04 | 401
* Rounded to the nearest whole number

Written comments and recommendations concerning the proposed information collection should be sent by October 26, 2015 to the SAMHSA Desk Officer at the Office of Information and Regulatory Affairs, Office of Management and Budget (OMB). To ensure timely receipt of comments, and to avoid potential delays in OMB's receipt and processing of mail sent through the U.S. Postal Service, commenters are encouraged to submit their comments to OMB via email to: OIRA_Submission@omb.eop.gov. Although commenters are encouraged to send their comments via email, commenters may also fax their comments to: 202-395-7285. Commenters may also mail them to: Office of Management and Budget, Office of Information and Regulatory Affairs, New Executive Office Building, Room 10102, Washington, DC 20503.

Summer King,
Statistician.

[FR Doc. 2015-24290 Filed 9-23-15; 8:45 am]

BILLING CODE 4162-20-P